DEPARTMENT OF ENERGY

Federal Energy Regulatory Commission

[Docket Nos. CP13-132-000; CP13-36-000]

Transcontinental Gas Pipeline Company, LLC; Notice of Intent to Prepare an Environmental Impact Statement for the Proposed Northeast Connector Project and Request for Comments on Environmental Issues

The staff of the Federal Energy Regulatory Commission (FERC or Commission) will discuss the potential environmental effects of the Northeast Connector Project, involving construction and operation of natural gas facilities by Transcontinental Gas Pipeline Company, LLC (Transco), in the Commission's environmental impact statement (EIS) currently under preparation for the Rockaway Delivery Lateral Project (Rockaway Project) in Docket No. CP13-36-000. Under the proposed Northeast Connector Project, Transco would modify three existing compressor stations located in York County, Pennsylvania and Mercer and Middlesex Counties, New Jersey to deliver an additional 100,000 dekatherms per day of natural gas into the New York City region. This notice announces the opening of the scoping process the Commission will use to gather input from the public and interested agencies on the project.

The additional service proposed in the Northeast Connector Project would utilize transportation on Transco's proposed Rockaway Project, a 3.2-mile-long pipeline in Queens and Kings Counties, New York. The Commission approved Transco's request to begin the pre-filing review process for the Rockaway Project on March 25, 2009. Commission staff previously held a scoping period for the Rockaway Project from May 25, 2012 through June 25, 2012. Transco filed an application for the Rockaway Project on January 7, 2013. Because the Northeast Connector Project is operationally dependent on the Rockaway Project to provide the intended service, and the two projects have similar projected construction and in-service dates, the Commission staff will evaluate the two projects jointly in the EIS. This EIS will be used by the Commission in its decision-making process to determine whether the Rockaway and Northeast Connector Projects are in the public convenience and necessity.

Comments on the Northeast Connector Project may be submitted to the FERC either electronically or by mail. Further details on how to submit comments are provided in the Public Participation section of this notice. Please note that the scoping period for the Northeast Connector Project will close on May 27, 2013.

This notice is being sent to the Commission's current environmental mailing list for both the Rockaway and Northeast Connector Projects. State and local government representatives are asked to notify their constituents of the Northeast Connector Project and encourage them to comment on their areas of concern. This scoping period is established to receive comments on the Northeast Connector Project, and comments previously filed with the FERC regarding the Rockaway Project should not be refiled under the Northeast Connector Project docket.

Summary of the Proposed Northeast Connector Project

The Northeast Connector Project would be constructed on lands owned by Transco within existing compressor station sites. No other landowners would be directly affected by the Northeast Connector Project facilities.

Transco proposes to:

• Add an incremental 6,540 horsepower (hp) of compression at its existing Compressor Station 195 in York County, Pennsylvania by: installing a new 35 kilovolt substation, variable frequency drive building, and associated coolers; replacing three existing natural gas-fired reciprocating engines and appurtenant facilities with two new electric motor drives; modifying the existing compressor units to be driven by the new electric motors; and modifying station piping and valves;

• Add an incremental 5,000 hp of compression at its existing Compressor Station 205 in Mercer County, New Jersey by uprating two existing electric motor drives and modifying the associated compressor units; and

• Add an incremental 5,400 hp of compression at its existing Compressor Station 207 in Middlesex County, New Jersey by uprating two existing electric motor drives and modifying associated gearboxes.

The modifications to the compressor stations would allow Transco to deliver an additional 100,000 dekatherms per day of natural gas to Brooklyn Union Gas Company, doing business as National Grid New York via an interconnect between Transco's existing Lower New York Bay Lateral and the proposed Rockaway Project. Overview and site-specific maps depicting the location of the proposed Northeast Connector Project are provided in Appendix 1.¹

¹ The appendices referenced in this notice are not being printed in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

Construction of the Northeast Connector facilities would disturb a total of 25.2 acres of land within the existing yard at Compressor Station 195, which is owned by Transco. Construction activities at Compressor Stations 205 and 207 would occur within the existing compressor buildings at these sites and would not disturb any additional land.

The EIS Process

The National Environmental Policy Act (NEPA) requires the Commission to take into account the environmental impacts that could result from an action whenever it considers the issuance of a Certificate of Public Convenience and Necessity. NEPA also requires us ² to discover and address concerns the public may have about proposed projects. This process is referred to as scoping. The main goal of the scoping process is to focus the analysis in the EIS on important environmental issues. By this notice, the Commission requests public comments on the scope of issues associated with the Northeast Connector Project to address in the EIS. We will consider all filed comments during the preparation of the EIS.

² “We,” “us,” and “our” refer to the environmental staff of the Commission's Office of Energy Projects.

In the EIS, we will discuss impacts that could occur as a result of the construction and operation of the Northeast Connector Project under these general headings:

• geology;

• soils;

• water resources;

• vegetation;

• wildlife and aquatic resources;

• fisheries and aquatic resources;

• threatened, endangered, and other special-status species;

• land use, recreation, special interest areas, and visual resources;

• socioeconomics;

• cultural resources;

• air quality and noise;

• reliability and safety; and

• cumulative environmental impacts.

We will also evaluate possible alternatives to the proposed project or portions of the project, and make recommendations on how to lessen or avoid impacts on the various resource areas.

The FERC staff is in the process of preparing an EIS for the Rockaway Project. Five other agencies are participating as cooperating agencies in the preparation of this EIS: the National Park Service, Environmental Protection Agency, U.S. Army Corps of Engineers, National Marine Fisheries Service, and New York City Mayor's Office of Environmental Coordination. With this notice, we are asking other agencies with jurisdiction by law and/or special expertise with respect to environmental issues related to the Northeast Connector Project to formally cooperate with us in the preparation of the EIS.³ Agencies that would like to request cooperating agency status should follow the instructions for filing comments provided under the Public Participation section of this notice.

³ The Council on Environmental Quality regulations addressing cooperating agency responsibilities are at Title 40, Code of Federal Regulations, Part 1501.6.

The EIS will present our independent analysis of the issues. We will publish and distribute the draft EIS for public comment. After the comment period, we will consider all timely comments and revise the document, as necessary, before issuing a final EIS. To ensure we have the opportunity to consider and address your comments, please carefully follow the instructions in the Public Participation section below.

Consultations Under Section 106 of the National Historic Preservation Act

In accordance with the Advisory Council on Historic Preservation's implementing regulations for Section 106 of the National Historic Preservation Act, we are using this notice to initiate consultation with the Pennsylvania and New Jersey State Historic Preservation Offices (SHPOs), and to solicit their views and those of other government agencies, interested Indian tribes, and the public on the project's potential effects on historic properties.⁴ The EIS will document our findings on the impacts on historic properties and summarize the status of consultations under Section 106. We note that Transco has signed categorical exclusions with both the Pennsylvania and New Jersey SHPOs exempting work activities within existing facilities from further review by the SHPOs.

⁴ The Advisory Council on Historic Preservation's regulations are at Title 36, Code of Federal Regulations, Part 800. Those regulations define historic properties as any prehistoric or historic district, site, building, structure, or object included in or eligible for inclusion in the National Register of Historic Places.

Public Participation

You can make a difference by providing us with your specific comments or concerns about the Northeast Connector Project. Your comments should focus on the potential environmental effects, reasonable alternatives, and measures to avoid or lessen environmental impacts. The more specific your comments, the more useful they will be. To ensure that your comments are timely and properly recorded, please send your comments so that the Commission receives them in Washington, DC on or before May 27, 2013.

For your convenience, there are three methods you can use to submit your comments to the Commission. In all instances, please reference the project docket number (CP13-132-000) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address.

Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners for both the Northeast Connector and Rockaway Projects, including those who own homes within certain distances of aboveground facilities, and anyone who submits comments on the project. We will update the environmental mailing list as the analysis proceeds to ensure that we send the information related to this environmental review to all individuals, organizations, and government entities interested in and/or potentially affected by the planned project.

Copies of the completed draft EIS will be sent to the environmental mailing list for public review and comment. If you would prefer to receive a paper copy of the document instead of a CD version or would like to remove your name from the mailing list, please return the attached Information Request (appendix 2). If you previously sent the Commission an “Information Request” for the Rockaway Project, you do not need to resubmit your request.

Becoming an Intervenor

You may want to become an “intervenor”, which is an official party to the Commission's proceeding on a project. Intervenors play a more formal role in the process and are able to file briefs, appear at hearings, and be heard by the courts if they choose to appeal the Commission's final ruling. An intervenor formally participates in the proceeding by filing a request to intervene. Instructions for becoming an intervenor are included in the “For Citizens” section of the Commission's Web site, under the “Get Involved” link (http://www.ferc.gov/for-citizens/get-involved.asp).

Additional Information

Additional information about the project is available from the Commission's Office of External Affairs, at (866) 208-FERC, or on the FERC Web site (www.ferc.gov) using the eLibrary link. Click on the eLibrary link, click on “General Search” and enter the docket number, excluding the last three digits in the Docket Number field (i.e., CP13-132). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Finally, Transco has established a toll-free phone number (1-866-455-9103) so that parties can call them directly with questions about the project and an email support address (PipelineExpansion@williams.com).

Dated: April 26, 2013.
Kimberly D. Bose,
Secretary.

[FR Doc. 2013-10613 Filed 5-3-13; 8:45 am]

BILLING CODE 6717-01-P